DEPARTMENT OF ENERGY

Federal Energy Regulatory Commission

[Docket No. RP02-560-001]

Maritimes & Northeast Pipeline, L.L.C.; Notice of Compliance Filing

November 14, 2002.

Take notice that on November 8, 2002, Maritimes & Northeast Pipeline, L.L.C. (Maritimes) tendered for filing as part of its FERC Gas Tariff, First Revised Volume No. 1, Sub Original Sheet No. 259A, effective October 25, 2002.

Maritimes states that the purpose of this filing is to comply with the letter order issued by the Commission on October 24, 2002 in Docket No. RP02-560-000 (October 24 Order). Maritimes states that on September 24, 2002, it filed a tariff sheet (September 24 Filing) with proposed changes to the capacity release provisions of the General Terms and Conditions of its tariff. Maritimes states that the Commission's October 24 Order accepted the proposed changes subject to Maritimes making certain further revisions to the tariff sheet within 15 days of the October 24 Order. Maritimes states that the tariff sheet included herewith includes the required revisions in compliance with the October 24 Order.

Maritimes states that copies of its filing have been mailed to all affected customers, interested state commissions, and all parties listed on the Official Service List compiled by the Secretary of the Commission in this proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-29426 Filed 11-19-02; 8:45 am]

BILLING CODE 6717-01-P